DEPARTMENT OF HEALTH AND HUMAN SERVICES

National Institutes of Health

Proposed Collection: Comment Request; Graduate Student Training Programs Application Correction Notice

In compliance with the requirement of section 3506(c)(2)(A) of the Paperwork Reduction Act of 1995, the National Institutes of Health (NIH) previously published a notice soliciting pubic comment on the proposed data collection project entitled, “Graduate Student Training Program Application” in the Federal Register on May 5, 2004 (69 FR 25132-25133). In the notice we errantly identified the data collection project as an extension. However, the data collection project is a revision, not an extension. We apologize for any confusion this error may have caused you.

Dated: May 28, 2004.
Michael M. Gottesman,
Deputy Director for Intramural Research, National Institutes of Health.

[FR Doc. 04-12665 Filed 6-3-04; 8:45 am]

BILLING CODE 4140-01-M